ENVIRONMENTAL PROTECTION AGENCY

[EPA-HQ-OAR-2013-0048, EPA-HQ-OAR-2013-0118, and EPA-HQ-OAR-2013-0019]

Proposed Information Collection Request; Comment Request: Information Requirements for Importation of Nonconforming Vehicles (Renewal); Control of Evaporative Emissions From New and In-Use Portable Gasoline Containers (Renewal); and Motor Vehicle and Engine Compliance Program Fees (Renewal)

AGENCY: Environmental Protection Agency (EPA).

ACTION: Notice.

SUMMARY: The Environmental Protection Agency is planning to submit three information collection requests (ICRs), “Information Requirements for Importation of Nonconforming Vehicles (Renewal)”, EPA ICR No. 0010.13, OMB Control No. 2060-0095; “Control of Evaporative Emissions from New and In-Use Portable Gasoline Containers (Renewal)”, ICR 2213.04, OMB 2060-0597; and “Motor Vehicle and Engine Compliance Program Fees (Renewal)”, EPA ICR 2080.05, OMB Control No. 2060-0545 to the Office of Management and Budget (OMB) for review and approval in accordance with the Paperwork Reduction Act (44 U.S.C. 3501 et seq.). Before doing so, EPA is soliciting public comments on specific aspects of the proposed information collections as described below. These are proposed extensions of the ICRs, which is currently approved through September 30, 2012. An Agency may not conduct or sponsor and a person is not required to respond to a collection of information unless it displays a currently valid OMB control number.

DATES: Comments must be submitted on or before May 7, 2013.

ADDRESSES: Submit your comments, referencing the Docket ID numbers provided for each item in the text, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Lynn Sohacki, Compliance Division, Office of Transportation and Air Quality, U.S. Environmental Protection Agency, 2000 Traverwood, Ann Arbor, Michigan 48105; telephone number: 734-214-4851; fax number 734-214-4869; email address: sohacki.lynn@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

EPA-HQ-OAR-2013-0048, Information Requirements for Importation of Nonconforming Vehicles (Renewal); EPA ICR No. 0010.13, OMB Control No. 2060-0095

Abstract: Importers into the U.S. of light duty vehicles, light duty trucks, and on-road motorcycles, or the corresponding engines, are required to report and keep records regarding the imports. The collection of this information is mandatory to insure compliance with Federal emissions requirements. Joint EPA and U.S. Customs Service regulations at 40 CFR 85.1501 et seq., 19 CFR 1273, and 19 CFR 1774, promulgated under the authority of Clean Air Act sections 203 and 208, give authority for the collection of this information. The information is used by program personnel to ensure that all Federal emissions requirements are met, and by State regulatory agencies, businesses, and individuals to verify whether vehicles are in compliance. Any information submitted to the Agency for which a claim of confidentiality is made is safeguarded according to policies set forth in title 40, chapter 1, part 2, subpart B—Confidentiality of Business Information (see 40 CFR part 2), and the public is not permitted access to information containing personal or organizational identifiers.

Form Numbers: EPA Form 3520-1 EPA Form 3520-8.

Respondents/affected entities: Importers (including Independent Commercial Importers) into the U.S. of light duty vehicles, light duty trucks, and on-road motorcycles, or the corresponding engines.

Respondent's obligation to respond: Required to obtain or retain a benefit (40 CFR 85.1501 et seq., 19 CFR 12.73, and 19 CFR 12.74).

Estimated number of respondents: 10,000 (total).

Frequency of response: Occasionally.

Total estimated burden: 8040 hours (per year). Burden is defined at 5 CFR 1320.03(b)

Total estimated cost: $141,493 (per year), which includes $42,523 annualized capital and operation & maintenance costs.

Changes in Estimates: There is a decrease of 152 hours in the total estimated respondent burden compared with the ICR currently approved by OMB. This decrease is due to a decrease in the number of vehicles imported under the “mod and test” and Independent Commercial Importer programs.

EPA-HQ-OAR-2013-0018, Control of Evaporative Emissions From New and In-Use Portable Gasoline Containers (Renewal), ICR 2213.04, OMB 2060-0597

Abstract: EPA is required under Section 183(e) of the Clean Air Act to regulate Volatile Organic Compound (VOC) emissions from the use of consumer and commercial products. Under regulations promulgated on February 26, 2007 (72 FR 8428) manufacturers of new portable gasoline containers are required to obtain certificates of conformity with the Clean Air Act, effective January 1, 2009. This ICR covers the burdens associated with this certification process. EPA reviews information submitted in the application for certification to determine if the container design conforms to applicable requirements and to verify that the required testing has been performed. The certificate holder is required to keep records on the testing and collect and keep warranty and defect information for annual reporting on in-use performance of their products. The respondent must also retain records on the units produced, apply serial numbers to individual containers, and track the serial numbers to their certificates of conformity. Any information submitted for which a claim of confidentiality is made is safeguarded according to EPA regulations at 40 CFR 2.201 et seq.

Form Numbers: None.

Respondents/affected entities: Manufacturers of new portable gasoline containers from 0.25 to 10.0 gallons in capacity.

Respondent's obligation to respond: Mandatory 40 CFR part 59, subpart F.

Estimated number of respondents: 8 (total).

Frequency of response: Yearly for warranty reports; at least once every five years for certificate renewals.

Total estimated burden: 179 hours (per year). Burden is defined at 5 CFR 1320.03(b).

Total estimated cost: $23,170 (per year), includes $12,552 annualized capital or operation & maintenance costs.

Changes in Estimates: There is a decrease of 33.8 hours in the total estimated respondent burden compared with the ICR currently approved by OMB. This increase is due to minor adjustments detailed in the draft Supporting Statement, which is included in this docket.

EPA-HQ-OAR-2013-0019, Motor Vehicle and Engine Compliance Program Fees (Renewal), EPA ICR 2080.05, OMB Control No. 2060-0545

Abstract: As required by the Clean Air Act, EPA has regulations establishing emission standards and other requirements for various classes of vehicles, engines, and evaporative emissions. These regulations require that compliance be demonstrated prior to EPA granting a “Certificate of Conformity”. EPA charges fees for administering this certification program. In 2004 the fees program was expanded to include non-road categories of vehicles and engines, such as several categories of marine engines, locomotives, non-road recreational vehicles, and many non-road compression-ignition and spark-ignition engines. In 2008 the fees program was further expanded to include fees for certification of evaporative system components (primarily fuel lines and fuel tanks). Manufacturers and importers of covered vehicles, engines and components are required to pay the applicable certification fees prior to their certification applications being reviewed. Under section 208 of the Clean Air Act (42 U.S.C. 7542(c)) all information, other than trade secret processes or methods, must be publicly available. Information about fee payments is treated as confidential information prior to certification.

Form Numbers: EPA Forms 3520-29.

Respondents/affected entities: Manufacturers or importers of passenger cars, motorcycles, light trucks, heavy duty truck engines, non-road vehicles or engines, and evaporative emissions components required to receive a certificate of conformity from EPA prior to selling or introducing these products into commerce in the U.S.

Respondent's obligation to respond: Required to obtain or retain a benefit (40 CFR Part 1027).

Estimated number of respondents: 583.

Frequency of response: Yearly and occasionally.

Total estimated burden: 1513 hours (per year). Burden is defined at 5 CFR 1320.03(b).

Total estimated cost: $112,873 (per year), which includes $24,673 annualized capital or operation & maintenance costs.

Changes in Estimates: There is increase of 306 hours in the total estimated respondent burden compared with the ICR currently approved by OMB. This increase is due to an adjustment of the estimate entirely due to the increased number of fee forms received from an increased number of manufacturers.

Dated: February 27, 2013.
Byron Bunker,
Director, Compliance Division.

[FR Doc. 2013-05487 Filed 3-7-13; 8:45 am]

BILLING CODE 6560-50-P